DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action

On November 26, 2019, OFAC determined that the property and interests in property subject to U.S. jurisdiction of the following persons are blocked under the relevant sanctions authority listed below.

Entity

1. CORPORACION PANAMERICANA S.A., Ave. 7MA. No. 6209 E/62 Y 66, Playa, Miramar, Havana, Cuba (entity) [VENEZUELA-EO13850-16900] (Linked To: CUBAMETALES).

Designated pursuant to Executive Order 13850, “Blocking Property of Additional Persons Contributing to the Situation in Venezuela,” 83 FR 55243, 3 CFR, 2019 Comp., p. 881, as amended by Executive Order 13857, “Taking Additional Steps To Address the National Emergency With Respect to Venezuela,” 84 FR 509 (“E.O. 13850”) for being owned or controlled by, or having acted or purported to act for or on behalf of, directly or indirectly, Cubametales, a person whose property and interests in property are blocked pursuant to E.O. 13850.

Dated: November 26, 2019.
Andrea Gacki,
Director, Office of Foreign Assets Control.

[FR Doc. 2019-26138 Filed 12-2-19; 8:45 am]

BILLING CODE 4810-AL-P